DEPARTMENT OF COMMERCE

National Oceanic and Atmospheric Administration

[RTID 0648-XE013]

New England Fishery Management Council; Public Meeting

AGENCY: National Marine Fisheries Service (NMFS), National Oceanic and Atmospheric Administration (NOAA), Commerce.

ACTION: Notice of public meeting.

SUMMARY: The New England Fishery Management Council (Council, NEFMC) will hold a four-day hybrid meeting with both in-person and remote participation to consider actions affecting New England fisheries in the exclusive economic zone (EEZ).

DATES: The meeting will be held on Monday, Tuesday, Wednesday, and Thursday, June 24-27, 2024, beginning at 1 p.m. on Monday and 9 a.m. on Tuesday, Wednesday, and Thursday.

ADDRESSES: The meeting will take place at the Hilton Garden Inn, 5 Park Street, Freeport, ME 04032; telephone: (207) 865-1433; online at https://www.hilton.com/en/hotels/pwmfdgi-hilton-garden-inn-freeport-downtown/. Join the webinar at https://register.gotowebinar.com/register/7044747360305110105.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Monday, June 24, 2024

The Council will begin this meeting with brief announcements, followed by reports on recent activities from the Council's Chair and Executive Director, the GARFO Regional Administrator, the NOAA Office of General Counsel, the Northeast Fisheries Science Center (NEFSC) Director, the Mid-Atlantic Fishery Management Council liaison, and representatives from the Atlantic States Marine Fisheries Commission (ASMFC), the U.S. Coast Guard, NOAA's Office of Law Enforcement, the Highly Migratory Species Advisory Panel, and the Advisory Committee to the U.S. Section of the International Commission for the Conservation of Atlantic Tunas (ICCAT). The Council then will receive a brief report on the status of the On-Demand Fishing Gear Conflict Working Group's activities. As the last order of business for the day, the Council will hear from its Atlantic Herring Committee, which will: (1) provide a summary of public comments received during scoping meetings conducted for Amendment 10 to the Atlantic Herring Fishery Management Plan; and (2) enter into an initial discussion on specifications for the 2025, 2026, and 2027 fishing years for Atlantic herring.

Tuesday, June 25, 2024

The Council will begin the second day of its meeting by considering updates to its 2022-26 Research Priorities and determining a schedule for future updates. The Council's Scientific and Statistical Committee (SSC) will provide input on the research priorities. Next, the Council will receive an overview of the day's climate/ecosystem-related discussion items, which will begin with: (1) a presentation on projects funded under the Inflation Reduction Act (IRA), coupled with a broad overview of the initial draft workplan; and (2) a report from the May 2024 East Coast Climate Coordination Group meeting, including further details regarding IRA-funded climate/ecosystem projects. The Council then will receive a presentation on NOAA's Climate, Ecosystems, and Fisheries Initiative (CEFI) and discuss how this initiative can be integrated into fishery management.

Following the lunch break, the Council will receive a presentation on the 2024 State of the Ecosystem Report for New England, followed by SSC input on the report and overall discussion. Next, the Council will hear from its Risk Policy Working Group. The Council will review and provide feedback on a draft revised Risk Policy and provide further direction to the working group. The SSC also will provide input on the draft Risk Policy. Following the adjournment of official business, the Council will host a public outreach session to foster open lines of communication among Council members, staff, industry, and all meeting attendees. This event will be held in the same hotel as the meeting itself—the Hilton Garden Inn in Freeport, ME—in the lobby area.

Wednesday, June 26, 2024

The Council will lead off the third day of its meeting with an overarching discussion of ecosystem-based fishery management (EBFM) and ecosystem approaches to fishery management (EAFM). The Council will: (1) discuss the path forward to consider EAFM for incremental action across all Council fishery management plans; (2) consider the structure of its current Ecosystem-Based Fishery Management Committee and EBFM Plan Development Team; and (3) discuss alternatives to the current committee/PDT structure given other ongoing ecosystem/climate activities. The Council then will hear about fishery independent surveys and survey mitigation, beginning with an update on the Northeast Fisheries Science Center's fishery independent surveys. The Science Center's update will cover: (1) NOAA Ship Henry B. Bigelow contingency plans; and (2) industry-based surveys. The Council then will receive comments from a subpanel of its SSC regarding a peer review of NEFSC's draft survey mitigation plans relative to offshore wind. An opportunity for Council questions and comments will follow. The Habitat Committee then will provide an offshore wind update, which will cover the proposed lease sale in the Gulf of Maine Wind Energy Area and other offshore wind developments. The committee also will provide other habitat updates, including a brief status report on the Essential Fish Habitat Review.

Following the lunch break, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. The Council then will receive a presentation on: (1) adopted changes to the U.S./Canada Transboundary Resources Assessment Committee and Transboundary Management Guidance Committee process—known as the TRAC/TMGC process; and (2) next steps for addressing assessment updates for shared U.S./Canada fishery resources on Georges Bank. The Council then will hear from NOAA General Counsel on Council and National Marine Fisheries Service procedural differences for fishery management plans, amendments, framework adjustments, and specifications. The Groundfish Committee will be up next. The Council will review public input and a draft report from three public workshops conducted this spring on the Atlantic Cod Management Transition Plan. A discussion on next steps will follow. The Council also will receive a progress report on Amendment 25, which is an action to incorporate four new Atlantic cod stock units into the Northeast Multispecies (Groundfish) Fishery Management Plan. Finally, the Council will initiate Framework Adjustment 69 to set specifications for several groundfish stocks for fishing years 2025-27, U.S./Canada total allowable catches (TACs) for 2025-26, and incorporate revisions to flatfish sub-annual catch limits (sub-ACLs) and accountability measures (AMs). The Council then will adjourn for the day.

Thursday, June 27, 2024

The Council will lead off the final day of its meeting with the Scallop Committee report. First, the Council will discuss and act on three items related to the Scallop Research Set-Aside (RSA) Program. These are: (1) RSA updates for inclusion in Council Operations Handbook; (2) shifting to a two-year RSA priority-setting schedule versus annual priority-setting; and (3) 2025 and 2026 scallop RSA priorities. The Council then will receive several other scallop-related updates, including: (1) a progress report on changes to flatfish accountability measures for the scallop fishery; (2) a brief update on the five-year review of the Limited Access General Category Individual Fishing Quota Program; and (3) an overview of ongoing scallop survey work. The Council also will initiate Framework Adjustment 39 to the Atlantic Sea Scallop Fishery Management Plan. This framework will include 2025 fishery specifications, 2026 defaults, flatfish AM changes, and other measures. Next, the Council will discuss developments to an omnibus framework adjustment to potentially authorize scallop fishery access to the Closed Area II Habitat Management Area on the Northern Edge of Georges Bank. The Council will take action or provide further direction on the preparation of management alternatives for the omnibus framework. Following this discussion, the Council may receive a presentation from NOAA Fisheries on a proposed rule for updating National Standard Guidelines 4, 8, and 9. If so, the Council will have an opportunity to ask questions and provide comments. This agenda item is dependent on publication of the proposed rule prior to the meeting and may be postponed to a later date if the proposed rule is not available. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Executive Director Cate O'Keefe (see ADDRESSES) at least 5 days prior to the meeting date.

Authority: 16 U.S.C. 1801 et seq.

Dated: June 3, 2024.
Rey Israel Marquez,
Acting Deputy Director, Office of Sustainable Fisheries, National Marine Fisheries Service.

[FR Doc. 2024-12438 Filed 6-5-24; 8:45 am]

BILLING CODE 3510-22-P